DEPARTMENT OF TRANSPORTATION

Surface Transportation Board

[STB Finance Docket No. 33915]

Norfolk Southern Railway Company—Trackage Rights Exemption—Canton Railroad Company

Canton Railroad Company (CTN), a Class III rail common carrier, has agreed to grant overhead trackage rights to Norfolk Southern Railway Company (NS) over approximately 1780 feet of CTN's mainline of railroad between a connection with NS at Station 100+92 in Baltimore, MD, and a connection with NS at approximately Station 83.12 in Baltimore City.¹

¹ A redacted version of the trackage rights agreement between CTN and NS was filed with the notice of exemption. The full version of the agreement, as required by 49 CFR 1180.6(a)(7)(ii), was concurrently filed under seal along with a motion for a protective order. A protective order was served on August 23, 2000.

NS reported that it intends to consummate the transaction on September 1, 2000, or as soon thereafter as the parties may agree and/or the time required for any necessary labor notice is given.

The purpose of the trackage rights is to permit NS to facilitate the development of a more efficient facility to serve a coal exporting facility in Baltimore, and to thus move traffic more safely, efficiently and expeditiously in the eastern Maryland region.

As a condition to this exemption, any employees affected by the trackage rights will be protected by the conditions imposed in Norfolk and Western Ry. Co.—Trackage Rights—BN, 354 I.C.C. 605 (1978), as modified in Mendocino Coast Ry., Inc.—Lease and Operate, 360 I.C.C. 653 (1980).

This notice is filed under 49 CFR 1180.2(d)(7). If it contains false or misleading information, the exemption is void ab initio. Petitions to revoke the exemption under 49 U.S.C. 10502(d) may be filed at any time. The filing of a petition to revoke will not automatically stay the transaction.

An original and 10 copies of all pleadings, referring to STB Finance Docket No. 33915, must be filed with the Surface Transportation Board, Office of the Secretary, Case Control Unit, 1925 K Street, N.W., Washington, DC 20423-0001. In addition, one copy of each pleading must be served on John V. Edwards, Norfolk Southern Railway Company, Three Commercial Place, Norfolk, VA 23510-2191.

Board decisions and notices are available on our website at “WWW.STB.DOT.GOV.”

Decided: August 24, 2000.
By the Board, David M. Konschnik, Director, Office of Proceedings.
Vernon A. Williams,
Secretary.

[FR Doc. 00-22191 Filed 8-30-00; 8:45 am]

BILLING CODE 4915-00-P